DEPARTMENT OF HEALTH AND HUMAN SERVICES

Administration for Children and Families

Submission for OMB Review; Comment Request

Title: Child Support Enforcement Program Expenditure Report (Form OCSE-396) and the Child Support Enforcement Program Collection Report (Form OCSE-34).

OMB No.: 0970-0181.

Description: State and Tribal agencies administering the Child Support Enforcement Program under Title IV-D of the Social Security Act are required to provide information each fiscal quarter to the Office of Child Support Enforcement (OCSE) concerning administrative expenditures and the receipt and disposition of child support payments from non-custodial parents. State title IV-D agencies report quarterly expenditures and collections using Forms OCSE-396 and OCSE-34, respectively. Tribal title IV-D agencies report quarterly expenditures using Form SF-425, as prescribed in program regulations, and formerly reported quarterly collections using only a modified version of Form OCSE-34. The information collected on these reporting forms is used to compute quarterly grant awards to States, the annual incentive payments to States, and provides valuable information on program finances of States and Tribes. The collected information is also included in a published annual statistical and financial report, available to the general public.

In response to an earlier Federal Register Notice (77 FR 72352 December, 2012), this agency received comments to support the minor changes and revisions to these forms at this time. As we continued to discuss improvements to these reporting forms with State and Tribal grantees we list a few minor revisions that have been incorporated to facilitate grant award operations and grantee financial reporting. These revisions were limited to any changes that allow Tribal grantees to, at least, use the same quarterly collection report submitted by State grantees. Additionally, further clarification was provided to reduce confusion over the inclusion of the Federal share of funding in computations of claims and to standardize treatment of claims. Finally, there were minor revisions in the title of the forms by reverting to the original designation as Form OCSE-396 and Form OCSE-34 and minor changes to the existing wording to improve clarity and accuracy.

One respondent was concerned with the Tribal and State governments using the same OCSE-34 Form, which was perceived to lead to an added burden and confusion about the submission of specific data elements. Our sense is that the form is developed in a sufficiently clear manner to inform respondents on the data elements required by each type of grantee. Furthermore, we consistently provide outreach and technical assistance to all grantees to ensure that reporting burdens are clear and minimized.

A few respondents provided technical and clerical edits to the OCSE-396 Form to increase accuracy and clarity. We have incorporated many of the requested edits and appreciate the detailed and thoughtful comments.

One respondent was concerned that the instructions to the OCSE-396 may be creating an additional burden by maintaining a 5 percent variance threshold (an increase or decease in any data element of Part 1 compared to that same data element for the previous quarter). While we are understanding of this concern our position is that the form will be used nationally and raising the variance threshold above 5 percent is not justified at this time.

Respondents: State and Tribal agencies (including New York, Texas, Washington, Puyallup Tribe, and Port Gamble S'klallam Tribe) administering a Child Support Enforcement Program.

Annual Burden Estimates
Instrument | Number of respondents | Number of responses per respondent | Average burden hours per response | Total burden hours
OCSE-396 | 54 | 4 | 6 | 1,296
OCSE-34 | 114 | 4 | 14 | 6,384

Estimated Total Annual Burden Hours: 7,680.

Additional Information: Copies of the proposed collection may be obtained by writing to the Administration for Children and Families, Office of Planning, Research and Evaluation, 370 L'Enfant Promenade, SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2014-04192 Filed 2-25-14; 8:45 am]

BILLING CODE 4184-01-P